DEPARTMENT OF COMMERCE

Foreign-Trade Zones Board

[Order No. 1219]

Approval for Extension of Authority of Board Order 745; Foreign-Trade Subzone 59A; Kawasaki Motors Manufacturing Corp., U.S.A. (Multi-Axis Industrial Robots); Lincoln, Nebraska

Pursuant to its authority under the Foreign-Trade Zones Act of June 18, 1934, as amended (19 U.S.C. 81a-81u), the Foreign-Trade Zones Board (the Board) adopts the following Order:

Whereas, Board Order 745 (60 FR 30517, 6-9-95) granted authority on behalf of Kawasaki Motors Manufacturing Corp., U.S.A. (KMM) to manufacture multi-axis industrial robots with six or more axes of motion under FTZ procedures for a limited time period (expires April 1, 2002), subject to extension;

Whereas, KMM, operator of Subzone 59A, has requested authority to extend its manufacturing authority for multi-axis industrial robots on a permanent basis;

Whereas, notice inviting public comment was given in the Federal Register (64 FR 25477, 5-12-99);

Whereas, the Board adopts the findings and recommendations of the examiner's report, and finds that the requirements of the FTZ Act and the Board's regulations are satisfied, and that approval of the request would be in the public interest;

Now therefore, the Board hereby approves the request subject to the FTZ Act and the Board's regulations, including Section 400.28, and subject to the restriction that the scope of authority is limited to the manufacture of multi-axis industrial robots having six or more axes of motion.

Signed at Washington, DC, this 29th day of March, 2002.
Faryar Shirzad,
Assistant Secretary of Commerce, for Import Administration, Alternate Chairman, Foreign-Trade Zones Board.
Dennis Puccinelli,
Executive Secretary.

[FR Doc. 02-8565 Filed 4-8-02; 8:45 am]

BILLING CODE 3510-DS-P